DEPARTMENT OF ENERGY

Federal Energy Regulatory Commission

[Project No. 349-173]

Alabama Power, Inc.; Supplement to Notice of Availability of the Draft Environmental Impact Statement for the Martin Dam Hydroelectric Project Announcing Public Meeting

On June 6, 2013, the Commission issued a Draft Environmental Impact Statement (draft EIS) for the Martin Dam Hydroelectric Project No. 349-173 (Martin Dam Project). The draft EIS documents the views of governmental agencies, non-governmental organizations, affected Indian tribes, the public, the license applicant, and Commission staff. All written comments must be filed by August 13, 2013, and should reference Project No. 349-173. More information on filing comments can be found in the letter at the front of the draft EIS or on the Commission's Web site at http://www.ferc.gov/docs-filing/efiling.asp. Although the Commission strongly encourages electronic filing, documents may also be paper-filed.

In addition to or in lieu of sending written comments, you are invited to attend a public meeting that will be held to receive comments on the draft EIS. The time and location of the meeting is as follows:

Date: Wednesday, July 17, 2013.

Time: 6:30 p.m. to 9:30 p.m.

Place: Central Alabama Community College, Betty Carol Graham Technology Center.

Address: 1675 Cherokee Road, Alexander City, Alabama 35010.

At this meeting, resource agency personnel and other interested persons will have the opportunity to provide oral and written comments and recommendations regarding the draft EIS. The meeting will be recorded by a court reporter, and all statements (verbal and written) will become part of the Commission's public record for the project. This meeting is posted on the Commission's calendar located at http://www.ferc.gov/EventCalendar/EventsList.aspx along with other related information.

For further information, contact Stephen Bowler at (202) 502-6861 or at stephen.bowler@ferc.gov.

Dated: June 18, 2013.
Kimberly D. Bose,
Secretary.

[FR Doc. 2013-15071 Filed 6-24-13; 8:45 am]

BILLING CODE 6717-01-P